DEPARTMENT OF HOMELAND SECURITY

Federal Emergency Management Agency

[Docket ID FEMA-2014-0022]

Technical Mapping Advisory Council

AGENCY: Federal Emergency Management Agency, DHS.

ACTION: Committee management; notice of Federal Advisory Committee meeting.

SUMMARY: The Federal Emergency Management Agency (FEMA) Technical Mapping Advisory Council (TMAC) will meet in person on May 15-16, 2018 in Arlington, Virginia. The meeting will be open to the public.

DATES: The TMAC will meet on Tuesday, May 15, 2018 from 8:00 a.m. to 5:30 p.m. Eastern Daylight Time (EDT), and Wednesday, May 16 from 8:00 a.m. to 5:30 p.m. EDT. Please note that the meeting will close early if the TMAC has completed its business.

ADDRESSES: The meeting will be held in Arlington, Virginia at 3101 Wilson Boulevard, Arlington, Virginia, 22201. Members of the public who wish to attend the meeting must register in advance by sending an email to FEMA-TMAC@fema.dhs.gov (Attention: Mark Crowell) by 11:00 a.m. EDT on Tuesday, May 8, 2018. Members of the public must check in at the front desk on the ninth floor of 3101 Wilson Boulevard, Arlington, Virginia, 22201; photo identification is required. For information on facilities or services for individuals with disabilities or to request special assistance at the meeting, contact the person listed in FOR FURTHER INFORMATION CONTACT below as soon as possible.

To facilitate public participation, members of the public are invited to provide written comments on the issues to be considered by the TMAC, as listed in the SUPPLEMENTARY INFORMATION section below. The Agenda and other associated material will be available for review at www.fema.gov/TMAC by Friday, May 11, 2018. Written comments to be considered by the committee at the time of the meeting must be received by Monday, May 14, 2018, identified by Docket ID FEMA-2014-0022, and submitted by one of the following methods:

• Federal eRulemaking Portal: http://www.regulations.gov. Follow the instructions for submitting comments.

• Email: Address the email to: FEMA-RULES@fema.dhs.gov and CC: FEMA-TMAC@fema.dhs.gov. Include the Docket ID in the subject line of the message. Include name and contact detail in the body of the email.

• Mail: Regulatory Affairs Division, Office of Chief Counsel, FEMA, 500 C Street SW, Room 8NE, Washington, DC 20472-3100.

Instructions: All submissions received must include the words “Federal Emergency Management Agency” and the Docket ID FEMA-2014-0022 for this action. Comments received will be posted without alteration at http://www.regulations.gov, including any personal information provided.

Docket: For docket access to read background documents or comments received by the TMAC, go to http://www.regulations.gov and search for the Docket ID FEMA-2014-0022.

A public comment period will be held on Tuesday, May 15, 2018, from 1:30 p.m. to 2:00 p.m. EDT and again on Wednesday, May 16, 2018 from 11:30 a.m. to 12:00 p.m. EDT. Speakers are requested to limit their comments to no more than 3 minutes. Please note that the public comment periods may end before the time indicated, following the last call for comments. Contact Mark Crowell, below, to register as a speaker by close of business on Friday, May 11, 2018.

FOR FURTHER INFORMATION CONTACT: Mark Crowell, Designated Federal Officer for the TMAC, FEMA, 400 C Street SW, Washington, DC 20472-3100, telephone (202) 646-3432, and email mark.crowell@fema.dhs.gov. The TMAC website is: http://www.fema.gov/TMAC.

SUPPLEMENTARY INFORMATION: Notice of this meeting is given under the Federal Advisory Committee Act, 5 U.S.C. Appendix.

As required by the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an Annual Report to the FEMA Administrator that contains: (1) A description of the activities of the Council; (2) an evaluation of the status and performance of flood insurance rate maps and mapping activities to revise and update Flood Insurance Rate Maps; and (3) a summary of recommendations made by the Council to the FEMA Administrator.

Agenda: On May 15, 2018, the TMAC will discuss the topics identified in FEMA's 2018 Tasking Memo to the TMAC and confirm subcommittee leads and subcommittee members for 2018. Each subcommittee will then meet to formulate the outline for their assigned topic and chapter in the TMAC 2018 Annual Report. Each subcommittee lead will then present the preliminary outline for their assigned topic and chapter in the Annual Report for Council discussion. On May 16, 2018, the TMAC will continue their discussion of topics for TMAC attention in 2018, refining the outlines for each of the chapters in the TMAC 2018 Annual Report, and collecting requests for subject matter expert briefs to the Council to inform their topic research. Members of the public will be afforded an opportunity to comment each day during the meeting (no more than 3 minutes per individual) and prior to any votes. However, the TMAC does not currently anticipate holding any votes during this meeting of the TMAC. A detailed agenda will be posted by Friday, May 11, 2018, at http://www.fema.gov/TMAC.

Dated: March 19, 2018.
Roy E. Wright,
Deputy Associate Administrator for Insurance and Mitigation, Federal Emergency Management Agency.

[FR Doc. 2018-06072 Filed 3-26-18; 8:45 am]

BILLING CODE 9110-12-P